Title 3—

The President

Proclamation 10644 of October 5, 2023

National Manufacturing Day, 2023

By the President of the United States of America

A Proclamation

On National Manufacturing Day, we celebrate American workers—the best workers in the world, who are leading a new manufacturing boom in our Nation—and we pledge to keep investing in them to make sure the future is Made in America.

Manufacturing is the backbone of our economy, but for the past few decades, we have not always treated it that way. We were told that trickle-down economics was the only way forward—cutting taxes for the wealthy and big corporations; slashing public investment in priorities like education, infrastructure, and health care; and letting American manufacturing jobs be shipped overseas. As a result, economic inequality only grew. And with every manufacturing town that was hollowed out, communities lost not just jobs but also pride and self-worth.

I ran for President to change that—to grow our economy from the middle out and bottom up, not the top down, moving from trickle-down economics to what some in the press are calling “Bidenomics.” Our plan is working. We have seen over 13 million new jobs created, including 800,000 manufacturing jobs. Unemployment has been below 4 percent for the longest stretch in over 50 years. And our inflation rate is among the lowest across the world's major economies. It is simple: Bidenomics means we are growing our economy by strengthening the middle class and making things in America again.

As a result, companies are reinvesting in America, building factories that will power our economy for years to come. Since I took office, we have attracted over $500 billion in private investment to American manufacturing and the industries of the future. Real spending on factory construction doubled in the last 2 years, and hit a record high in August, after falling under my predecessor—and so far this year, it has contributed more to gross domestic product growth than any 6 months on record. Instead of exporting American jobs, we are creating American jobs and exporting American products again.

This progress is possible because we are doing what has always worked best in our country—investing in America and in American workers. The Bipartisan Infrastructure Law that I signed puts Americans to work rebuilding our Nation's roads, bridges, ports, and more using American-made materials. We have already announced more than 37,000 new projects across all 50 States. The CHIPS and Science Act is making sure the United States leads the world in innovation by bringing semiconductor manufacturing home so we never again rely on foreign supply chains for the computer chips that power everything in our lives, from cellphones and cars to sophisticated weapons systems. The Inflation Reduction Act is powering a clean energy revolution, increasing our production of essential batteries and clean energy technologies and making sure a sustainable and energy independent future is Made in America. And we are collaborating with employers, unions, community colleges, high schools, and other partners to help more Americans train for the good manufacturing jobs and careers that these investments are creating.

But we are not only making things in America again—we are making sure the Federal Government buys American as well. I started by introducing the most robust updates to the Buy American Act in nearly 70 years, increasing the proportion of American-made content required in federally-acquired goods. I announced new standards requiring that the lumber, glass, fiber optic cables, and other construction materials used in Federal infrastructure projects must be made in America. And I signed an Executive Order requiring Federal research-and-development agencies to prioritize domestic manufacturing when it comes time to bring taxpayer funded inventions to market. When the Federal Government spends taxpayers' money, we are making sure it is on American products made by American workers, creating American jobs.

For too long, too many of us have been told to give up on American manufacturing. I will never do that. We are living through one of the greatest industrial revivals in our Nation's history. There is no one that America cannot outcompete. We used to lead the world in manufacturing, and by investing in America and in our people, we are leading the world in manufacturing growth. Jobs are coming home. Factories are coming home. And we are feeling pride once again in the phrase that is finally a reality and not just a slogan: “Made in America.”

NOW, THEREFORE, I, JOSEPH R. BIDEN JR., President of the United States of America, by virtue of the authority vested in me by the Constitution and the laws of the United States, do hereby proclaim October 6, 2023, as National Manufacturing Day. I encourage all Americans to look for ways to get involved in your community and join me in participating in National Manufacturing Day and, most importantly, buying American.

IN WITNESS WHEREOF, I have hereunto set my hand this fifth day of October, in the year of our Lord two thousand twenty-three, and of the Independence of the United States of America the two hundred and forty-eighth.

[FR Doc. 2023-22581

Filed 10-10-23; 8:45 am]

Billing code 3395-F4-P